DEPARTMENT OF HOMELAND SECURITY

Federal Emergency Management Agency

[Docket ID FEMA-2008-0010]

Board of Visitors for the National Fire Academy

AGENCY: Federal Emergency Management Agency, DHS.

ACTION: Committee Management; Notice of Open Federal Advisory Committee Meeting.

SUMMARY: The Board of Visitors for the National Fire Academy (Board) will meet on September 22-23, 2015, in Emmitsburg, Maryland. The meeting will be open to the public.

DATES: The meeting will take place on Tuesday, September 22, 8:30 a.m. to 5:00 p.m. Eastern Daylight Time and on Wednesday, September 23, 8:30 a.m. to 5:00 p.m. Eastern Daylight Time. Please note that the meeting may close early if the Board has completed its business.

ADDRESSES: The meeting will be held at the National Emergency Training Center, 16825 South Seton Avenue, Building H, Room 300, Emmitsburg, Maryland. Members of the public who wish to obtain details on how to gain access to the facility and directions may contact Ruth MacPhail as listed in the FOR FURTHER INFORMATION CONTACT section by close of business September 15, 2015. Picture identification is needed for access. Members of the public may also participate by teleconference and may contact Ruth MacPhail to obtain the call-in number and access code. For information on services for individuals with disabilities or to request special assistance, contact Ruth MacPhail as soon as possible.

To facilitate public participation, we are inviting public comment on the issues to be considered by the Board as listed in the SUPPLEMENTARY INFORMATION section. Comments must be submitted in writing no later than September 15, 2015, must be identified by Docket ID FEMA-2008-0010 and may be submitted by one of the following methods:

• Federal eRulemaking Portal: http://www.regulations.gov. Follow the instructions for submitting comments.

• Email: FEMA-RULES@fema.dhs.gov. Include the docket number in the subject line of the message.

• Mail/Hand Delivery: Ruth MacPhail, 16825 South Seton Avenue, Emmitsburg, Maryland 21727.

Instructions: All submissions received must include the words “Department of Homeland Security” and the Docket ID for this action. Comments received will be posted without alteration at http://www.regulations.gov, including any personal information provided.

Docket: For access to the docket to read background documents or comments received by the National Fire Academy Board of Visitors, go to http://www.regulations.gov, click on “Advanced Search,” then enter “FEMA-2008-0010” in the “By Docket ID” box, then select “FEMA” under “By Agency,” and then click “Search.” Meeting materials will be posted at http://www.usfa.fema.gov/nfa/about/bov.shtm by September 15, 2015.

FOR FURTHER INFORMATION CONTACT:

Alternate Designated Federal Officer: Kirby E. Kiefer, telephone (301) 447-1117, email Kirby.Kiefer@fema.dhs.gov.

Logistical Information: Ruth MacPhail, telephone (301) 447-1117, fax (301) 447-1173, and email Ruth.Macphail@fema.dhs.gov.

SUPPLEMENTARY INFORMATION: The Board of Visitors for the National Fire Academy (Board) will meet on Tuesday, September 22, and Wednesday, September 23, 2015. The meeting will be open to the public. Notice of this meeting is given under the Federal Advisory Committee Act, 5 U.S.C. Appendix.

Purpose of the Board

The purpose of the Board is to review annually the programs of the National Fire Academy (NFA) and advise the Administrator of the Federal Emergency Management Agency (FEMA), through the United States Fire Administrator, on the operation of the NFA and any improvements therein that the Board deems appropriate. In carrying out its responsibilities, the Board examines NFA programs to determine whether these programs further the basic missions that are approved by the Administrator of FEMA, examines the physical plant of the NFA to determine the adequacy of the NFA's facilities, and examines the funding levels for NFA programs. The Board submits a written annual report through the United States Fire Administrator to the Administrator of FEMA. The report provides detailed comments and recommendations regarding the operation of the NFA.

Agenda

On the first day of the meeting, there will be five sessions, with deliberations and voting at the end of each session as necessary. The Board will also select a Chairperson and Vice Chairperson for Fiscal Year 2016.

1. The Board will receive updates on U.S. Fire Administration data, research, and response support initiatives.

2. The Board will then deliberate and vote on recommendations on NFA program activities, including:

• The Managing Officer Program, a multiyear curriculum that introduced emerging emergency services leaders to personal and professional skills in change management, risk reduction, and adaptive leadership; a progress report on this new program will be discussed;

• Report of the Executive Fire Officer Program (EFOP) Symposium held September 10-12, 2015; an annual event for alumni which recognizes outstanding applied research completed by present EFOP participants, recognizes recent EFOP graduates, provides high-quality presentations offered by private and public sector representatives, facilitates networking between EFOP graduates, promotes further dialog between EFOP graduates and U.S. Fire Administrator and National Fire Academy faculty and staff.

• Curriculum and Instruction program activities;

• Status of Staff Vacancies and Challenges;

• Resident class enrollment increase.

• Report of the Annual National Professional Development Symposium and Support Initiatives, held June 10-12, 2015, which brought national training and education audiences together for their annual conference and support initiatives.

3. The Board will then discuss deferred maintenance and capital improvements on the National Emergency Training Center campus and Fiscal Year 2015 Budget Request/Budget Planning.

4. The Board will then receive annual ethics training.

5. The Board will also conduct classroom visits.

On the second day, the Board will continue classroom visits, as well as tour the campus facility. The Board will then engage in an annual report writing session. Deliberations or voting may occur as needed during the report writing session.

There will be a 10-minute comment period after each agenda item; each speaker will be given no more than 2 minutes to speak. Please note that the public comment period may end before the time indicated, following the last call for comments. Contact Ruth MacPhail to register as a speaker.

Dated: August 28, 2015.
Terry P. Gladhill,
Executive Officer, National Fire Academy, United States Fire Administration, Federal Emergency Management Agency.

[FR Doc. 2015-21835 Filed 9-2-15; 8:45 am]

BILLING CODE 9111-45-P